DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of application in response to Funding Opportunity Announcement (FOA) PAR 15-361, NIOSH Centers of Excellence for Total Worker Health (TWH).

Time and Date:1:00 p.m.-6:00 p.m., EDT, March 21, 2017 (Closed).

Place: Via Teleconference.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “NIOSH Centers of Excellence for Total Worker Health (TWH)”, PAR 15-361.

Contact Person for More Information: Marilyn Ridenour, B.S.N., M.B.A., M.P.H., Scientific Review Officer, CDC, 1095 Willowdale Road, Mailstop 1811, Morgantown, WV Telephone: (304) 285-5879, DVN7@CDC.GOV .

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-03629 Filed 2-23-17; 8:45 am]

BILLING CODE 4163-18-P